FEDERAL MARITIME COMMISSION

Privacy Act of 1974; System of Records

AGENCY: Office of the Secretary, Federal Maritime Commission.

ACTION: Notice of a new system of records.

SUMMARY: The Federal Maritime Commission (FMC or Commission) sponsors advisory committees in accordance with the Federal Advisory Committee Act when the FMC or Congress deems it would be beneficial to obtain advice or recommendations on issues or policies under consideration by the FMC. The Commission appoints advisory committee members which may include special government employees, Federal employees, or representatives of outside organizations, such as trade groups or industry. The FMC collects information about applicants to assess their qualifications to serve as a committee member, such as employment history, education, references, and other information relevant to the applicant's qualifications.

DATES: Written comments must be received no later than March 2, 2023. The revisions will become effective as proposed on March 2, 2023 unless the Commission receives comments that would result in a contrary determination.

ADDRESSES: Submit written comments to the Secretary, Federal Maritime Commission, 800 N Capitol Street NW, Washington, DC 20573-0001; or email comments to: Secretary@fmc.gov (email comments as an attachment in MS Word or PDF). Include in the Subject Line: Comments on Systems of Records Notice FMC-44.

FOR FURTHER INFORMATION CONTACT: William Cody, Office of the Secretary, 800 N Capitol Street NW, Suite 1046, Washington, DC 20573-0001. (202) 523-5725. Secretary@fmc.gov.

SUPPLEMENTARY INFORMATION: This is a new system of records for records related to Federal advisory committees that the Commission supports.

SYSTEM NAME AND NUMBER:

FMC-44 Federal Advisory Committee Files.

SECURITY CLASSIFICATION:

Unclassified.

SYSTEM LOCATION:

Office of the Secretary, Federal Maritime Commission, 800 North Capitol Street NW, Washington, DC 20573-0001.

SYSTEM MANAGER(S):

Secretary, Federal Maritime Commission, 800 N Capitol Street NW, Washington, DC 20573-0001, Secretary@fmc.gov.

AUTHORITY FOR MAINTENANCE OF THE SYSTEM:

Federal Advisory Committee Act, 5 U.S.C. appendix 2.

46 U.S.C. chapter 425 (establishing the National Shipper Advisory Committee).

PURPOSE(S) OF THE SYSTEM:

The purpose of this system is to evaluate and select members of advisory committees within the jurisdiction of the FMC, and for the management of advisory committees, including the preparation of reports, documenting membership, and the nomination and appointment of members, member terms, vacancies, acceptance, and separation.

CATEGORIES OF INDIVIDUALS COVERED BY THE SYSTEM:

Appointed members of the Commission's advisory committees, applicants or nominees to the Commission's advisory committees, and individual participants in the Commission's advisory committees' working groups or subcommittees who are not necessarily appointed members of the advisory committees.

CATEGORIES OF RECORDS IN THE SYSTEM:

Applications containing descriptions of educational and professional experience and qualifications, and letters of reference which may also include the following:

• name;

• title;

• home address;

• business address;

• employer and employment history;

• organizational affiliation;

• phone number;

• email address;

• educational institutions attended, and degrees held;

• references/letters of recommendation, and other information relevant to an individual's qualifications to serve on an advisory committee;

• date of birth;

• social security number;

• gender;

• race;

• drivers license number and state of issuance;

• prior residences for purposes of obtaining a credit check and criminal background check and the results of those checks;

• information about the member's position on the committee, including documentation of their appointment, date of appointment, term, date of separation, and reason for separation.

RECORD SOURCE CATEGORIES:

Records are obtained from applicants who seek to serve on advisory committees, references for applicants, Members of Congress, and applicants' former employers. Information may also be obtained from publicly available sources with the applicant's consent.

ROUTINE USES OF RECORDS MAINTAINED IN THE SYSTEM, INCLUDING

CATEGORIES OF USERS AND PURPOSES OF SUCH USES:

In addition to those disclosures generally permitted under 5 U.S.C. 552a(b), the Commission may:

1. Use the records to determine suitability for Committee membership of an applicant or retention of a current member or to make a determination whether to appoint an individual to an advisory committee or retain the individual as an advisory committee member.

2. Provide these records to the Executive Office of the President, the Office of Management and Budget, or the General Services Administration, when necessary, in the administration of the FMC's advisory committees, including complying with reporting obligations;

3. Share advisory committee records with the public when the FMC deems it necessary to inform the public of advisory committee membership or activities. This routine use does not permit disclosure of an individual's home address, date of birth, social security number, gender, race, school or university transcripts, drivers license number and state of issuance, or prior residences.

4. Provide such records during an appropriate proceeding before a court, grand jury, or administrative or adjudicative body or official, when the FMC or other Agency representing the FMC determines the records are relevant and necessary to the proceeding to which the government is a party; or in an appropriate proceeding before an administrative or adjudicative body when the adjudicator determines the records to be relevant to the proceeding,

5. Provide such records to contractors, grantees, experts, consultants, students, and others performing or working on a contract, service, grant, cooperative agreement, or other assignment for the Federal Government when necessary to accomplish an agency function related to this System of Records.

6. Provide such records to appropriate agencies, entities, and persons when (1) the FMC suspects or confirms that there has been a breach of the system of records; (2) the FMC determines that as a result of the suspected or confirmed breach there is a risk of harm to individuals, the FMC (including its information systems, programs, and operations), the Federal Government, or national security; and (3) the disclosure made to such agencies, entities, and persons is reasonably necessary to assist in connection with the FMC's efforts to respond to the suspected or confirmed breach or to prevent, minimize, or remedy such harm.

7. Provide such records to another Federal agency or Federal entity, when the FMC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

• Physical records are maintained in file folders in a limited access location.

• Electronic records are maintained within the confines of the FMC General Support System (FMC GSS).

POLICIES AND PRACTICES FOR RETRIEVAL OF RECORDS:

• Physical records are indexed alphabetically by name or committee name.

• Electronic records are retrievable by individual name or committee name.

POLICIES AND PRACTICES FOR RETENTION AND DISPOSAL OF RECORDS:

Resumes and references of members and applicants are retained and disposed of when they are superseded, obsolete, or no longer needed, in accordance with General Records Schedule 6.2, Item 050. Records related to the selection and membership of committee members are permanent and transferred to the National Archives and Records Administration when they are 15 years old or the committee is terminated, whichever is sooner, in accordance with General Records Schedule 6.2, Item 010. https://www.archives.gov/files/records-mgmt/grs/trs30-sch-only.pdf

ADMINISTRATIVE, TECHNICAL, AND PHYSICAL SAFEGUARDS:

• Access to physical records in this system are limited to those individuals who have a need to know the information for performance of their official duties and who have appropriate clearances or permission.

• Electronic files are safeguarded to meet multiple National Institute of Standards and Technology (NIST) Security Standards with password and identification protections. File access is limited to individuals who have a need to know the information for performance of their official duties and who have appropriate clearances or permission.

RECORD ACCESS PROCEDURES:

Requests for access to a record should be directed to the Secretary listed at the above address. Requests may be in person or by mail and shall meet the requirements set out in out in 46 CFR 503.65.

CONTESTING RECORD PROCEDURES:

An individual desiring to amend a record shall direct such a request to the Secretary at the above listed address. Such requests shall specify the desired amendments and the reasons therefore and shall meet the requirements set out in of 46 CFR 503.66.

NOTIFICATION PROCEDURES:

Any individual shall be informed whether or not any Commission system of records contains a record pertaining to him or her when requested in accordance with the requirements of 46 CFR 503.63(a).

EXEMPTIONS PROMULGATED FOR THE SYSTEM:

None.

HISTORY:

N/A.

William Cody,
Secretary.

[FR Doc. 2023-01975 Filed 1-30-23; 8:45 am]

BILLING CODE 6730-02-P